DEPARTMENT OF COMMERCE

National Institute of Standards and Technology

Notice of Government owned inventions available for licensing

AGENCY: National Institute of Standards and Technology, Commerce.

ACTION: Notice of Government owned inventions available for licensing.

SUMMARY: The inventions listed below are owned in whole or in part by the U.S. Government, as represented by the Department of Commerce. The Department of Commerce's interest in the inventions is availble for exclusive or non-exclusive licensing in accordance with 35 U.S.C. 207 and 37 CFR part 404 to achieve expeditious commercialization of results of federally funded research and development.

FOR FURTHER INFORMATION CONTACT: Technical and licensing information on these investions may be obtained by writing to: National Institute of Standards and Technology, Office of Technology Partnerships, Building 820, Room 213, Gaitherburg, MD 20899; Fax 301-869-2751. Any request for information should include the NIST Docket number and title for the relevant invention as indicated below.

SUPPLEMENTARY INFORMATION: NIST may enter into a Cooperative Research and Development Agreement (“CRADA”) with the license to perform further research on the inventions for purposes of commercialization. The inventions available for licensing are:

NIST Docket Number: 99-013US.

Title: Efficient Microwave Magnetic Recording System.

Abstract: A microwave magnetic recording system can enable magnetic recording heads for computer disk drives to record efficiently at data rates in excess of 500 × 10 −⁶ bits per second. The microwave magnetic recording system permits a recording head to operate a bandwidths which are limited only by the fundamental physical limits of electron spin precession rates. The system includes a microwave waveguide as the source of the energizing field, shaped write pulses to reduce overshoot due to ferromagnetic resonance, an rf ac bias signal to thermally excite the recording medium and thereby reduce the necessary recording field, higher moment magnetic head materials to increase the spin precession rate in a thin-film geometry, and hard-axis biased magnetic head materials to increase the flux conduction efficiency of thin pole tip materials. All of these features complement thin-film head designs or may be used with exotic planarized head structure.

NIST Docket Number: 00-010US.

Title: Reagents For Water Determination In Samples Containing Iodine-Reacting Interfering Substances.

Abstract: The present invention relates to reagents for water determination in materials containing iodine-reacting interfering substances. The reagents are use for corrrection of results of Karl Fischer (KF) water determination in matters such as oils, drugs, cosmetic products, foodstuffs, chemical products and other polar- and non-polar materials containing iodine-reacting substances, which interfere with the Karl Fischer methods for water determination. The Reagents of the invention comprise iodine, an iodide and a buffer in mixture of solvents in which at lease one is a polar non-aqueous solvent and at least one is a non-polar non-aqueous solvent.

NIST Docket Number: 03-033US.

Title: Electrochemical Fluidized Bed Coating of Powders.

Abstract: A method for coating particulate substrate materials is provided which comprises (a) combining particles and an electrolyte in an imperforate container; (b) vibrating the container to generate a fluidized bed of particles in the electrolyte; and (c) electrochemically depositing a coating on the particles from reactants in the electrolyte. An apparatus for coating particles is also provided which comprises an imperforate containere for receiving particles to be coated and an electrolyte and a device for generating afluidized bed in the container, the device being operatively associated with the container.

Dated: November 20, 2001.
Karen H. Brown,
Deputy Director.

[FR Doc. 01-29664 Filed 11-28-01; 8:45 am]

BILLING CODE 3510-13-M